DEPARTMENT OF TRANSPORTATION

Maritime Administration

[Docket No. MARAD-2022-0076]

Deepwater Port License Application: New Fortress Energy Louisiana FLNG LLC

AGENCY: Maritime Administration, Department of Transportation.

ACTION: Notice of application.

SUMMARY: The Maritime Administration (MARAD) and the U.S. Coast Guard (USCG) announce they have received an application from New Fortress Energy Louisiana FLNG LLC (Applicant) for the licensing of a deepwater port and that the application for the New Fortress Energy Louisiana FLNG deepwater port contains information sufficient to commence processing. This notice summarizes the Applicant's plans and the procedures that will be considered during the application review process.

DATES: The Deepwater Port Act of 1974, as amended, (the Act) requires at least one public hearing on this application to be held in the designated Adjacent Coastal State(s) (ACS) not later than 240 days after publication of this notice and a decision on the application not later than 90 days after the final public hearing(s).

ADDRESSES: The public docket for the New Fortress Energy Louisiana FLNG deepwater port license application is maintained by the U.S. Department of Transportation, Docket Management Facility, West Building, Ground Floor, Room W12-140, 1200 New Jersey Avenue SE, Washington, DC 20590.

The license application is available for viewing at the Regulations.gov website: https://www.regulations.gov under docket number MARAD-2022-0076.

We encourage you to submit comments electronically through the Federal eRulemaking Portal at https://www.regulations.gov. Alternatively, comments may be mailed to the public docket at the address listed above or faxed to 202-493-2251. Comments that are sent to the docket should include the docket number, which is MARAD-2022-0076.

If you submit your comments electronically, it is not necessary to also submit a hard copy. Additionally, if you go to the online docket and sign up for email alerts, you will be notified when comments are posted. Anonymous comments will be accepted. All comments received will be posted without change to https://www.regulations.gov and will include any personal information you have provided. The Federal Docket Management Facility's telephone number is 202-366-9317 or 202-366-9826, the fax number is 202-493-2251.

If you cannot submit material using https://www.regulations.gov, please contact either Mr. Brian Barton, MARAD, or Ms. Galia Kaplan, as listed in the following FOR FURTHER INFORMATION CONTACT section of this document.

FOR FURTHER INFORMATION CONTACT: Mr. Brian Barton, Maritime Administration, telephone 202-366-0302, email: Brian.Barton@dot.gov, or Ms. Galia Kaplan, U.S. Coast Guard, telephone: 202-372-1567, email: Galia.Kaplan@uscg.mil. For questions regarding viewing the Docket, call Docket Operations, telephone: 202-366-9826.

SUPPLEMENTARY INFORMATION:

Receipt of Application

On March 31, 2022, MARAD and USCG received an application from the Applicant for all Federal authorizations required for a license to own, construct, and operate a deepwater port for the export of liquified natural gas (LNG) as authorized by the Act, and implemented under 33 Code of Federal Regulations (CFR) Parts 148, 149, and 150. After a coordinated completeness review by MARAD, USCG, and other cooperating Federal agencies, the application is deemed complete and contains information sufficient to initiate processing.

Background

The Act defines a deepwater port as any fixed or floating manmade structure other than a vessel, or any group of such structures, that are located beyond State seaward boundaries and used or intended for use as a port or terminal for the transportation, storage, and further handling of oil or natural gas for transportation to, or from, any State. A deepwater port includes all components and equipment, including pipelines, pumping or compressor stations, service platforms, buoys, mooring lines, and similar facilities that are proposed as part of a deepwater port to the extent they are located seaward of the high-water mark.

The Secretary of Transportation delegated to the Maritime Administrator authorities related to licensing deepwater ports (49 CFR 1.93(h)). Statutory and regulatory requirements for processing applications and licensing appear in 33 U.S.C. 1501 et seq. and 33 CFR part 148. Under delegations from and agreements between the Secretary of Transportation and the Secretary of Homeland Security, applications are jointly processed by MARAD and USCG. Each application is considered on its merits.

In accordance with 33 U.S.C. 1504(f) for all applications, MARAD and the USCG, working in cooperation with other involved Federal agencies and departments, shall comply with the requirements of the National Environmental Policy Act (NEPA) of 1969 (42 U.S.C. 4321 et seq.). The U.S. Environmental Protection Agency (EPA), the U.S. Army Corps of Engineers (USACE), the National Oceanic and Atmospheric Administration (NOAA), the Bureau of Ocean Energy Management (BOEM), the Bureau of Safety and Environmental Enforcement (BSEE), and the Pipeline and Hazardous Materials Safety Administration (PHMSA), among others, participate in the processing of deepwater port applications and assist in the NEPA process as described in 40 CFR 1501.6. Each agency may participate in scoping and/or other public meeting(s) and may incorporate the MARAD/USCG environmental impact review for purposes of their jurisdictional permitting processes, to the extent applicable. Comments related to this deepwater port application addressed to the EPA, USACE, or other federal agencies should note the federal docket number, MARAD-2022-0076. Each comment will be incorporated into the Department of Transportation (DOT) docket and considered as the environmental impact analysis is developed to ensure consistency with the NEPA process. All connected actions, permits, approvals, and authorizations will be considered during the processing of the New Fortress Energy Louisiana FLNG deepwater port license application.

MARAD, in issuing this Notice of Application pursuant to 33 U.S.C. 1504(c), must designate as an ACS any coastal state which (A) would be directly connected by pipeline to a deepwater port as proposed in an application, or (B) would be located within 15 nautical miles of any such proposed deepwater port (see 33 U.S.C. 1508(a)(1)). Pursuant to the criteria provided in the Act, Louisiana is the designated ACS for this application. Other states may request from the Maritime Administrator designation as an ACS in accordance with 33 U.S.C. 1508(a)(2).

The Act directs that at least one public hearing take place in each ACS, in this case, Louisiana. Additional public meetings may be conducted to solicit comments for the environmental analysis to include public scoping meetings, or meetings to discuss the Draft and Final Environmental Impact Statement documents prepared in accordance with NEPA.

MARAD, in coordination with the USCG, will publish additional Federal Register notices with information regarding these public meeting(s) and hearing(s) and other procedural milestones, including the NEPA environmental impact review. The Maritime Administrator's decision, and other key documents, will be filed in the public docket for the application at docket number MARAD-2022-0076.

The Act imposes a strict timeline for processing an application. When MARAD and USCG determine that an application is complete (i.e., contains information sufficient to commence processing), the Act directs that all public hearings on the application be concluded within 240 days from the date the Notice of Application is published.

Within 45 days after the final hearing, the Governor of the ACS, in this case, the Governor of Louisiana, may notify MARAD of their approval, approval with conditions, or disapproval of the application. If such approval, approval with conditions, or disapproval is not provided to the Maritime Administrator by that time, approval shall be conclusively presumed. MARAD may not issue a license without the explicit or presumptive approval of the Governor of the ACS. During this 45-day period, the Governor may also notify MARAD of inconsistencies between the application and State programs relating to environmental protection, land and water use, and coastal zone management. In this case, MARAD may condition the license to make it consistent with such state programs (33 U.S.C. 1508(b)(1)). MARAD will not consider written approvals or disapprovals of the application from the Governor of the ACS until commencement of the 45-day period after the final public hearing for the Final Environmental Impact Statement is completed. The Maritime Administrator must render a decision on the application within 90 days after the final hearing.

Should a favorable record of decision be rendered and a license be issued, MARAD may include specific conditions related to design, construction, operations, environmental permitting, monitoring and mitigations, and financial responsibilities. If a license is issued, USCG, in coordination with other agencies as appropriate, would review and approve the deepwater port's engineering, design, and construction; operations/security procedures; waterways management and regulated navigation areas; maritime safety and security requirements; risk assessment; and compliance with domestic and international laws and regulations for vessels that may call on the port. The deepwater port would be designed, constructed, and operated in accordance with applicable codes and standards.

In addition, the installation of pipelines and other structures may require permits under Section 404 of the Clean Water Act and Section 10 of the Rivers and Harbors Act, which are administered by the USACE.

Permits from the EPA may also be required pursuant to the provisions of the Clean Air Act, as amended, and the Clean Water Act, as amended.

Summary of the Application

The application proposes the ownership, construction, operation, and eventual decommissioning of the New Fortress Energy (“NFE”) Louisiana FLNG deepwater port (“DWP”) terminal approximately 16 nautical miles off the southeast coast of Grand Isle, Louisiana. The project is to source domestic natural gas from multiple supply hubs in the Southeast Louisiana local market, liquify, and export as liquefied natural gas (LNG) up to 2.8 million metric tonnes per annum (MTPA), from a deepwater port located in federal waters off Louisiana.

The project will involve the installation of two nominal 1.4 MTPA liquefaction systems (FLNG1 and FLNG2) installed in the West Delta Outer Continental Shelf Lease Block 38 (“WD-38”) in approximately 30 meters (98 feet) of water. Each system will contain three platforms consisting of natural gas processing, natural gas liquefaction, and utilities and accommodations. FLNG1 will incorporate self-elevating platforms (aka jack-up platforms or rigs), and FLNG2, which will be located adjacent to FLNG1, will utilize fixed platform structures. An additional self-elevating platform will house feed gas compressors. Other than temporary construction staging areas, there are no onshore facilities associated with the Project. Staging for construction, if needed, will utilize existing staging, laydown and warehouse space near Port Fourchon, Port Sulphur, or Venice.

The feed gas supply to the project will be transported to the WD-38 site via the existing Kinetica Energy Express, LLC (“Kinetica”) offshore natural gas pipeline system and two newly constructed, 24-inch pipeline laterals connecting the Kinetica pipeline system to the Project. The Kinetica pipeline has been in continuous natural gas service since it was placed in service. The pipeline pressure is currently operating at 750 pounds per square inch (“psi”) with an onshore Maximum Allowable Operating Pressure (“MAOP”) of 1,000 psi and an offshore MAOP of 1,250 psi.

Both FLNG1 and FLNG2 will be connected to a single Floating LNG Storage Unit (“FSU”) via a flexible, partially submerged, 220-meter cryogenic hose transfer system. The FSU will be positioned approximately 107 meters (350 feet) from the FLNGs. To export the LNG, the FSU will receive one (1) commercially traded LNG carrier (LNGC) at a time, which will have a nominal cargo capacity of approximately 125,000 m3 to 160,000 m3. The LNGCs will berth along the starboard side of the FSU and receive the LNG cargo through a ship-to-ship transfer cargo transfer system. The LNGC will approach the DWP and depart from the DWP using an extension to the established safety fairway, which serves maritime traffic calling at the Louisiana Offshore Oil Port. Approximately 40 LNGCs will call on the Project per year.

For more information please contact either Mr. Brian Barton, MARAD, or Ms. Galia Kaplan, as listed in the FOR FURTHER INFORMATION CONTACT section of this document.

Privacy Act

The electronic form of all comments received into the Federal Docket Management System can be searched by the name of the individual submitting the comment (or signing the comment, if submitted on behalf of an association, business, labor union, etc.). The DOT Privacy Act Statement can be viewed in the Federal Register published on April 11, 2000 (Volume 65, Number 70, pages 19477-78) or by visiting www.regulations.gov.

(Authority: 33 U.S.C. 1501, et seq.; 49 CFR 1.93(h))

By Order of the Acting Maritime Administrator.
T. Mitchell Hudson, Jr.,
Secretary, Maritime Administration.

[FR Doc. 2022-08757 Filed 4-22-22; 8:45 am]

BILLING CODE 4910-81-P